POSTAL SERVICE

39 CFR Part 111

Extended Mail Forwarding Service

AGENCY: Postal Service™.

ACTION: Final rule.

SUMMARY: The Postal Service is amending Mailing Standards of the United States Postal Service, Domestic Mail Manual (DMM®) section 507.2.0 to add a new product offering that will allow customers to extend mail forwarding service.

DATES: Effective Date: July 10, 2022.

FOR FURTHER INFORMATION CONTACT: Iwon Kaiyuan at (202) 268-4899 or Garry Rodriguez at (202) 268-7281.

SUPPLEMENTARY INFORMATION: The DMM currently provides that customers who submit a permanent change-of-address (COA) request generally receive mail forwarding service for 12 months at no cost. After the 12-month forwarding period, the mail is returned to the sender or disposed of by the USPS®.

The Postal Service initiated a Market Test, Extended Mail Forwarding service, (Docket No. MT2020-2, PRC Order No. 5591) on July 20, 2020, to provide customers with an option to extend their forwarding service for a fee. Extended Mail Forwarding service provides customers the option to extend forwarding service beyond the 12-month period in six-month increments or by an additional 6, 12, or 18 months, or any combination, not to exceed 18 months. Customers can extend a permanent COA order by purchasing Extended Mail Forwarding service at a Post Office or online through the COA Application (MoversGuide) on USPS.com.

On February 14, 2022, the Postal Service filed a request with the Postal Regulatory Commission to make the Extended Mail Forwarding service market test a permanent offering. Documents pertinent to the request are available in Docket No. MC-2022-40.

The Postal Service believes this new offering will provide customers with a service that will enhance their mailing experience.

The Postal Service adopts the following changes to Mailing Standards of the United States Postal Service, Domestic Mail Manual (DMM), incorporated by reference in the Code of Federal Regulations. See 39 CFR 111.1.

We will publish an appropriate amendment to 39 CFR part 111 to reflect these changes.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

500 Additional Mailing Services

* * * * *

507 Mailer Services

* * * * *

2.0 Forwarding

2.1 Change-of-Address Order

2.1.1 Normal Time Limit

[Revise the text of 2.1.1 to read as follows:]

2.1.1 Normal Time Limit

Records of change-of-address orders are kept by Post Offices for forwarding and for address correction purposes as follows:

a. A record of permanent change-of-address orders is kept by Post Offices for 18 months, from the end of the month when the change takes effect. Generally, forwarding is available for the first 12 months, see 1.5, 1.6, and 1.7 for additional information.

b. A record of change-of-address orders from general delivery to a permanent local address without time limit is kept 6 months.

c. A record of change-of-address orders to other than a permanent local address is kept 30 days.

[Revise the heading and text of 2.1.2 to read as follows:]

2.1.2 Extended Mail Forwarding Service

Customers may extend a permanent change-of-address order for up to an additional 18 months of forwarding by purchasing Extended Mail Forwarding service at a Post Office or online through the Change of Address Application (MoversGuide) on USPS.com. Extended Mail Forwarding service may be purchased in six month increments or by an additional 6, 12, or 18 months, or any combination, not to exceed 18 months. See Notice 123—Price List for fees.

* * * * *

Index

* * * * *

E

* * * * *

[Add “Extended Mail Forwarding Service” alphabetically under “E”.]

* * * * *

Joshua J. Hofer,
Attorney, Ethics & Legal Compliance.

[FR Doc. 2022-04308 Filed 3-1-22; 8:45 am]

BILLING CODE P